DEPARTMENT OF JUSTICE

Antitrust Division

Notice Pursuant to the National Cooperative Research and Production Act of 1993—Wireless Application Protocol Forum, Ltd.

Notice is hereby given that, on July 12, 2001, pursuant to section 6(a) of the National Cooperative Research and Production Act of 1993, 15 U.S.C. 4301 et seq. (“the Act”), Wireless Application Protocol Forum, Ltd. (“WAP”) has filed written notifications simultaneously with the Attorney General and the Federal Trade Commission disclosing changes in its membership status. The notifications were filed for the purpose of extending the Act's provisions limiting the recovery of antitrust plaintiffs to actual damages under specified circumstances. Specifically, 4thpass Inc., Seattle, WA; Discretrix Technologies Ltd., Netanya, ISRAEL; Infineon Technologies AG, Munich, GERMANY; LightSurf Technologies, Inc., Santa Cruz, CA; Mahindra British Telecom Limited, Maharashtra, INDIA; MobileOne Pte. Ltd., Singapore, SINGAPORE; Omnisky Corporation, San Francisco CA; OneName Corporation, Seattle, WA; Sandia Research Corporation, Las Cruces, NM; and W-Phone, Inc., San Jose, CA have been added as parties to this venture. Also, Airwallet, Redwood City, CA; Alerts, Inc., Raleigh, NC; BarPoint.com, Deerfield Beach, FL; BrainDock.com, New York, NY; Concrete Media, New York, NY; DeLorme Mapping, Yarmouth, MN; eCash Technologies, Inc., Bothell, WA; ESRI, Inc., Redlands, CA; GeePS, Inc., Cranbury, NJ; GWcom, Inc., Santa Clara, CA; Ignition Corp., Bellevue, WA; LiveMind, San Francisco, CA; Luminant Worldwide Corporation, Dallas, TX; MDSI Mobile Data Solution, Inc., Richmond, British Columbia, CANADA; MobileWebSurf.com, Milpitas, CA; Open Market Inc., Burlington, MA; Pervasive Software Inc., Austin TX; Plexus Technologies, San Jose, CA; Portal Software, Incorporated, Cupertino, CA; Securant Technologies Inc., San Francisco, CA; Sinia Corporation, Mountain View, CA; STM Wireless, Inc., Irvine, CA; SUMmedia.com Inc., Vancouver, British Columbia, CANADA; Vectrix, Dallas, TX; VeriFone, Santa Clara, CA; Veriprise Wireless Corporation, Alpharetta, GA; BulletN.net, Inc., Alpharetta, GA; Covigo, Belmont, CA; Mercator Software, Wilton, CT; Noblestar, Reston, VA; Novell Inc., San Jose, CA; OgilvyInteractive Worldwide, New York, NY; OZ.COM, Burlington, MA; Qwest Wireless, Denver, CO; Saraide, Nepean, Ontario, CANADA; ShopNow.com, North Seattle, WA; ThinAir Apps, New York, NY; Usha Communications Technology, Portland, OR; Winstar Communications, New York, NY; Cybird, Co., Ltd., Tokyo, JAPAN; iNFOiSLIVE Corporation Limited, Hong Kong, HONG KONG—CHINA; China Mobile Communication Corporation, Beijing, PEOPLE'S REPUBLIC OF CHINA; Hong Kong CSL Limited, Hong Kong, HONG KONG—CHINA; Japan Telecom Co, LTD, Tokyo, JAPAN; Sasken Communication Technologies Limited, Bangalore, INDIA; Zi Corporation, Hong Kong, HONG KONG—CHINA; Agence Virtuelle SA, Geneve, SWITZERLAND; Apar Infotech Limited, Maidenhead, UNITED KINGDOM; ASP Global Limited, Salford, UNITED KINGDOM; Cross Systems, Paris, FRANCE; Endero Plc, Helsinki, FINLAND; F-Secure Corporation, Espoo, FINLAND; iTouch Technologies, London, UNITED KINGDOM; Mobile News Channel (MNC), Lausanne, SWITZERLAND; Mosaic Software, Rondebosch, SOUTH AFRICA; MTDS Oy, Espoo, FINLAND; NavaraSoft Ltd., Shannon, County Clare, IRELAND; netdecisions, London, UNITED KINGDOM; Novo Meridian Oy, Espoo, FINLAND; NVision, West Bracknell, UNITED KINGDOM; Openet Telecom Limited, Dublin, IRELAND; Sessami, London, UNITED KINGDOM; smapCo, Hamburg, GERMANY; Vasco Data Security, Wemmel, BELGIUM; Visma ASA, Oslo, NORWAY; CAA-Computer Aided Animation GmbH, Filderstadt, GERMANY; Concert Communications, Ipswich, UNITED KINGDOM; Digital Mobility Ltd., London, UNITED KINGDOM; Orange Communications SA, Lausanne, SWITZERLAND; Telit Mobile Terminals Spa, Sgonico, ITALY; Wapit Ltd., Helsinki, FINLAND; and Partner Communications Co. Ltd., Rosh Ha'ayin, ISRAEL have been dropped as parties to this venture.

The following companies have merged: Allaire Corporation, Newton, MA was acquired by Macromedia, San Francisco, CA; Mannesmann AG, Duesseldorf, GERMANY was acquired by Vodafone, Newbury, Berkshire, UNITED KINGDOM; PCS Innovations Inc., Brossard, Quebec, CANADA was acquired by Schulmberger, Montrouge, FRANCE; and Savos, Inc., New York, NY was acquired by GiantBear.com, White Plains, NY.

The following members have changed their names: infinite Technologies is now Captaris, Owings Mills, MD; iXL Inc. is now iXL Enterprises, Inc., Atlanta, GA; SeraNova, Inc. is now Silverline Technologies, Piscataway, NJ; XYPoint Corporation is now TeleCommunication Systems, Inc., Seattle, WA; PageNet is now Arch Wireless, Plano, TX; Entrust Technologies Inc. is now Entrust, Plano, TX; Everypath.Com, Inc. is now Everypath, San Jose, CA; Spyglass, Inc. is now OpenTV, Inc., Mountain View, CA; Roger Cantel is now Rogers Wireless Inc., Toronto, Ontario, CANADA; Cable & Wireless HKT is now Hong Kong CSL Limited, Hong Kong, HONG KONG—CHINA; J-PHONE Tokyo Co., Ltd. is now J-PHONE EAST Co., Ltd., Tokyo, JAPAN; DDI Corporation is now KDDI, Tokyo, JAPAN; Nedecom-Network Development Consulting Plc. is now Endero Plc, Helsinki, FINLAND; Trema Treasury Management AB is now Trema Laboratories SARL, Valbonne, FRANCE; CMG Telecommunications & Utilities BV is now CMB Wireless Data Solutions B.V., Nieuwegein, THE NETHERLANDS; Eircell is now Eircell 2000 Plc, Dublin, IRELAND; Maxon Cellular Systems (DENMARK) A/S is now Maxon Telecom A/S, Aalborg Ost, DENMARK; and InfoCell is now Info2cell.com, Dubai Internet City, JORDAN.

No other changes have been made in either the membership or planned activity of the group research project. Membership in this group research project remains open, and WAP intends to file additional written notifications disclosing all changes in membership.

On March 18, 1998, WAP filed its original notification pursuant to Section 6(a) of the Act. The Department of Justice published a notice in the Federal Register pursuant to section 6(b) of the Act on December 31, 1998 (63 FR 72333). The last notification was filed with the Department on April 3, 2001. A notice was published in the Federal Register pursuant to section 6(b) of the Act on May 23, 2001 (66 FR 28549).

Constance K. Robinson,
Director of Operations, Antitrust Division.

[FR Doc. 01-28360 Filed 11-9-01; 8:45 am]

BILLING CODE 4410-01-M